DEPARTMENT OF HOMELAND SECURITY

Federal Emergency Management Agency

44 CFR Part 65

[Docket No. FEMA-P-7646]

Changes in Flood Elevation Determinations

AGENCY: Federal Emergency Management Agency, Emergency Preparedness and Response Directorate, Department of Homeland Security.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Mitigation Division Director of the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arkansas: Lonoke, Case No.: 04-06-2140P | City of Cabot | July 20, 2005; July 27, 2005; Cabot Star-Herald | The Hon. Mickey Staumbaugh, Mayor, City of Cabot, Post Office Box 1113, Cabot, Arkansas 72076 | October 25, 2005 | 050309
Illinois: Will, Case No.: 04-05-4087P | City of Lockport | July 6, 2005; July 13, 2005; The Herald News | The Honorable Tim Murphy, Mayor, City of Lockport, 222 East 9th Street, Lockport, Illinois 60441 | June 21, 2005 | 170703
Illinois: Cook, Case No.: 04-05-3545P | Village of Matteson | August 4, 2005; August 11, 2005; The Daily Southtown | The Honorable Mark Stricker, President, Village of Matteson, 4900 Village Commons, Matteson, Illinois 60443 | July 22, 2005 | 170123
Illinois: Cook, Case No.: 04-05-2894P | Village of Orland Park | June 23, 2005; June 30, 2005; The Orland Park Star | The Honorable Daniel McLaughlin, Mayor, Village of Orland Park, 14700 Ravinia Avenue, Orland Park, Illinois 60462 | September 29, 2005 | 170140
Illinois: Cook, Case No.: 04-05-2894P | Village of Tinley Park | June 23, 2005; June 20, 2005; The Tinley Park Star | The Honorable Edward J. Zabrocki, Mayor, Village of Tinley Park, 16250 South Oak Park Avenue, Tinley Park, Illinois 60477 | September 29, 2005 | 170169
Kansas: Sedgwick, Case No.: 04-07-526P | City of Wichita | June 23, 2005; June 30, 2005; The Wichita Eagle | The Honorable Carlos Mayans, Mayor, City of Wichita, City Hall—1st Floor 455 North Main, Wichita, Kansas 67202 | September 29, 2005 | 200328
New Mexico: Bernalillo, Case No.: 04-06-1742P | City of Albuquerque | July 7, 2005; July 14, 2005; Albuquerque Journal | The Honorable Martin Chavez, Mayor, City of Albuquerque, City/County Building, 11th Floor, Albuquerque, New Mexico 87102 | October 13, 2005 | 350002
New Mexico: Bernalillo, Case No.: 04-06-1742P | Unincorporated Areas | July 7, 2005; July 14, 2005; Albuquerque Journal | The Honorable Tom Rutherford, Chairman, Bernalillo County, One Civic Plaza NW., Albuquerque, New Mexico 87102 | October 13, 2005 | 350001
Oklahoma: Tulsa, Case No.: 04-06-1611P | City of Broken Arrow | July 7, 2005; July 14, 2005; Broken Arrow Ledger | The Honorable Richard Carter, Mayor, City of Broken Arrow, 220 South First Street, Broken Arrow, Oklahoma 74103 | October 13, 2005 | 400236
Oklahoma: Tulsa, Case No.: 04-06-1461P | City of Broken Arrow | July 7, 2005; July 14, 2005; Broken Arrow Ledger | The Honorable Richard Carter, Mayor, City of Broken Arrow, 220 South First Street, Broken Arrow, Oklahoma 74103 | October 13, 2005 | 400236
Texas: Bexar, Case No.: 04-06-1194P | City of San Antonio | August 10, 2005; August 17, 2005; San Antonio Express News | The Honorable Phil Hardberger, Mayor, City of San Antonio, Post Office Box 839966, San Antonio, Texas 78283-3966 | August 2, 2005 | 480045
Texas: Bexar, Comal and Kendall, Case No.: 04-06-395P | City of Fair Oaks Ranch | July 22, 2005; July 29, 2005; The Boerne Star Hill Recorder | The Honorable E. L. Gaubatz, Mayor, City of Fair Oaks Ranch, 7286 Deitz Elkhorn, Fair Oaks Ranch, Texas 78015 | July 5, 2005 | 481644
Texas: Collin County, Case No.: 04-06-1201P | City of Frisco | July 22, 2005; July 29, 2005; The Frisco Enterprise | The Honorable Mike Simpson, Mayor, City of Frisco, City Hall 6891 Main Street, Frisco, Texas 75034 | October 28, 2005 | 480134
Wisconsin: Milwaukee, Case No.: 04-05-3539P | City of Glendale | August 4, 2005; August 11, 2005; The North Shore Herald | The Honorable R. Jay Hintze, Mayor, City of Glendale, 6936 North Braeburn Lane, Glendale, Wisconsin 53209 | November 11, 2005 | 550275
Wisconsin: Milwaukee and Washington, Case No.: 04-05-3539P | City of Milwaukee | August 5, 2005; August 12, 2005; The Milwaukee Courier | The Honorable Tom Barrett, Mayor, City of Milwaukee, 200 E. Wells Street, Room 201, Milwaukee, Wisconsin 53202 | November 11, 2005 | 550278

(Catalog of Federal Domestic Assistance No. 83.100, “Flood Insurance.”)
Dated: September 26, 2005.
David I. Maurstad,
Acting Director, Mitigation Division, Emergency Preparedness and Response Directorate.

[FR Doc. 05-19817 Filed 10-3-05; 8:45 am]

BILLING CODE 9110-12-P